DEPARTMENT OF THE INTERIOR

Bureau of Land Management

[CA-310-0777-AF]

Notice of Resource Advisory Council Vacancy

AGENCY: Northeast California Resource Advisory Council Susanville, California, Bureau of Land Management, Interior.

ACTION: Notice of vacancy

SUMMARY: Pursuant to authorities in the Federal Advisory Committees Act (Public Law 92-463) and the Federal Land Policy and Management Act (Public Law 94-579), the U.S. Bureau of Land Management's Northeast California Resource Advisory Council is seeking nominations to fill a vacancy on the council. The person selected to fill the vacancy will complete an unexpired term that ends in September 2002. The designee will be eligible to compete for the full three-year term when the current term expires.

SUPPLEMENTARY INFORMATION: The council vacancy is in membership category two: persons representing national or regionally recognized environmental groups, dispersed recreational activities, archaeological or historical interests, or nationally or regionally recognized wild horse and burro interest groups. Advisory Council members are appointed by the Secretary of the Interior. The person selected must have knowledge or experience in the interest area specified, and must have knowledge of the geographic area under the council's purview (the northeast portion of California and the northwest corner of Nevada).

Qualified applicants must have demonstrated a commitment to collaborate to solve a broad spectrum of natural resource issues.

Nomination forms are available by contacting BLM Public Affairs Officer Joseph J. Fontana, 2950 Riverside Drive, Susanville, CA 96130; by telephone (530) 257-5381; or email, jfontana@ca.blm.gov. Nominations must be returned to: Bureau of Land Management, 2950 Riverside Drive, Susanville, CA 96130, Attention Public Affairs Officers, no later than Friday, Friday, Jan. 12, 2001.

FOR ADDITIONAL INFORMATION: Contact BLM Eagle Lake Field Manager Linda Hansen or Public Affairs Officer Joseph J. Fontana at the above phone or email address.

Joseph J. Fontana,
Public Affairs Officer.

[FR Doc. 00-29601 Filed11-17-00; 8:45 am]

BILLING CODE 4310-40-M